ENVIRONMENTAL PROTECTION AGENCY

40 CFR Part 52

[EPA-R10-OAR-2015-0067; FRL-9965-67-Region 10]

Air Plan Approvals, Idaho: Logan Utah/Idaho PM2.5 Nonattainment Area

AGENCY: Environmental Protection Agency (EPA).

ACTION: Final rule.

SUMMARY: The Environmental Protection Agency (EPA) is approving revisions to Idaho's State Implementation Plan (SIP) submitted in 2012 and 2014 to address Clean Air Act (CAA) requirements for the Idaho portion of the Logan, Utah-Idaho fine particulate matter (PM2.5) nonattainment area (Logan UT-ID area). Based on newly available air quality monitoring data, the EPA is approving Idaho's attainment demonstration and approving Idaho's 2014 Motor Vehicle Emissions Budgets (MVEBs) as early progress budgets. Additionally, the EPA is conditionally approving Reasonable Further Progress (RFP), Quantitative Milestones (QMs), and revised MVEBs for the Idaho portion of the nonattainment area, based on Idaho's commitment to adopt and submit updates to these attainment plan elements within one year of the effective date of this final action.

DATES: This final rule is effective September 7, 2017.

ADDRESSES: The EPA has established a docket for this action under Docket ID No. EPA-R10-OAR-2015-0067. All documents in the docket are listed on the http://www.regulations.gov Web site. Although listed in the index, some information may not be publicly available, i.e., Confidential Business Information or other information the disclosure of which is restricted by statute. Certain other material, such as copyrighted material, is not placed on the Internet and is publicly available only in hard copy form. Publicly available docket materials are available at http://www.regulations.gov or at EPA Region 10, Office of Air and Waste, 1200 Sixth Avenue, Seattle, Washington 98101. The EPA requests that you contact the person listed in the FOR FURTHER INFORMATION CONTACT section to schedule your inspection. The Regional Office's official hours of business are Monday through Friday, 8:30 to 4:30, excluding Federal holidays.

FOR FURTHER INFORMATION CONTACT: Jeff Hunt, Air Planning Unit, Office of Air and Waste (OAW-150), Environmental Protection Agency, Region 10, 1200 Sixth Ave., Suite 900, Seattle, WA 98101; telephone number: (206) 553-0256; email address: hunt.jeff@epa.gov.

SUPPLEMENTARY INFORMATION:

Table of Contents

I. Background Information

II. Final Action

III. Statutory and Executive Orders Review

I. Background Information

On June 1, 2017, the EPA proposed to approve Idaho's attainment demonstration and 2014 MVEBs as early progress budgets (82 FR 25208). As part of the same action, the EPA also proposed to conditionally approve RFP, QMs, and revised MVEBs for the Idaho portion of the nonattainment area. An explanation of the CAA requirements, a detailed analysis of the submittals, and the EPA's reasons for proposing approval were provided in the notice of proposed rulemaking, and will not be restated here. The public comment period for the proposal ended July 3, 2017. We received no comments.

II. Final Action

For the reasons set forth in the proposed rulemaking for this action, the EPA is approving the attainment demonstration in Idaho's 2012 and 2014 revisions to the SIP (Idaho attainment plan) for the Idaho portion of the Logan UT-ID area. The EPA is also approving the 2014 MVEBs as early progress budgets, in that they are consistent with making progress toward attainment of the 24-hour 2006 PM2.5 National Ambient Air Quality Standards by December 31, 2015. Lastly, the EPA is conditionally approving RFP, QMs, and revised MVEBs in the Idaho attainment plan, based on Idaho's April 25, 2017 commitment to adopt and submit updated plan elements to meet these requirements. Under a conditional approval, the State must adopt and submit the specific revisions it has committed to by a date certain but not later than one year of this final action.¹ If the EPA fully approves the submittal of the revisions specified in the commitment letter, the conditional nature of the approval would be removed and the submittal would become fully approved. If the State does not submit these revisions by the date specified in the April 25, 2017 commitment letter, or if the EPA finds the State's revisions to be incomplete, or EPA disapproves the State's revisions, a conditional approval will convert to a disapproval. If any of these occur and the EPA's conditional approval converts to a disapproval, that will constitute a disapproval of a required plan element under part D of title I of the Act, which starts an 18-month clock for sanctions, see section 179(a)(2), and the two-year clock for a Federal Implementation Plan (FIP), see CAA section 110(c)(1)(B).

¹ In IDEQ's April 25, 2017 commitment letter, IDEQ committed to submit revisions by August 1, 2018.

III. Statutory and Executive Orders Review

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land in Idaho and is also not approved to apply in any other area where the EPA or an Indian tribe has demonstrated that a tribe has jurisdiction. In those areas of Indian country, the rule does not have tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 10, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 24, 2017.
Michelle L. Pirzadeh,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart N—Idaho

2. In § 52.670, the table in paragraph (e) is amended by adding an additional entry at the end of the table for “Fine Particulate Matter Attainment Plan.”

The addition reads as follows:

§ 52.670 Identification of plan.

* * * * *

(e) * * *

EPA-Approved Idaho Nonregulatory Provisions and Quasi-Regulatory Measures
Name of SIP provision | Applicable geographic or nonattainment area | State submittal date | EPA approval date | Comments
* * * * * * *
Fine Particulate Matter Attainment Plan | Franklin County, Logan UT-ID PM2.5 Nonattainment Area | 12/19/2012; 12/24/2014 | 8/8/2017, [Insert Federal Register citation] | Approved: moderate area attainment demonstration and 2014 reasonable further progress motor vehicle emissions budgets. Conditional Approval: reasonable further progress, quantitative milestone, motor vehicle emission budget requirements.

[FR Doc. 2017-16614 Filed 8-7-17; 8:45 am]

BILLING CODE 6560-50-P